FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington, DC 20551-0001, not later than December 26, 2025.

A. Federal Reserve Bank of Kansas City (Jeffrey Imgarten, Assistant Vice President) 1 Memorial Drive, Kansas City, Missouri 64198-0001. Comments can also be sent electronically to KCApplicationComments@kc.frb.org:

1. The Mary Ellen Wall 2021 Legacy Trust dated May 11, 2021, James N. Wall Marital Trust A, and James N. Wall Marital Trust B, all of Ada, Oklahoma, Mary Ellen Wall, Shawnee, Oklahoma, and Vision Bank, Ada, Oklahoma, as co-trustees of each trust; the Amy Wall Coroma Trust, Ada, Oklahoma, Amy Coroma, Union, Missouri, and Vision Bank as co-trustees; Laura Wall Cox Trust, Ada, Oklahoma, Laura Cox, Norman, Oklahoma, and Vision Bank as co-trustees; Jamie Wall Hammons Trust, Ada, Oklahoma, Jamie Hammons, Shawnee, Oklahoma, and Vision Bank as co-trustees; Nancy Wall Vincent Trust, Ada, Oklahoma, Nancy Vincent, Tomball, Texas, and Vision Bank as co-trustees; and the Elizabeth Wall Trust, Ada, Oklahoma, Elizabeth Wall, Shawnee, Oklahoma, and Vision Bank as co-trustees; to join the Wall Family Control Group, a group acting in concert, to retain voting shares of Vision Bancshares, Inc., Ada, Oklahoma, and thereby indirectly retain voting shares of Vision Bank, Ada, Oklahoma.

Board of Governors of the Federal Reserve System.
Michele Taylor Fennell,
Associate Secretary of the Board.

[FR Doc. 2025-22568 Filed 12-10-25; 8:45 am]

BILLING CODE 6210-01-P